DEPARTMENT OF TRANSPORTATION

Federal Aviation Administration

14 CFR Part 39

[Docket No. FAA-2008-1082; Directorate Identifier 2007-NM-337-AD; Amendment 39-15925; AD 2009-12-02]

RIN 2120-AA64

Airworthiness Directives; Airbus Model A300 Airplanes; Model A300 B4-601, B4-603, B4-620, B4-622, B4-605R, B4-622R, F4-605R, F4-622R, and C4-605R Variant F Airplanes (Collectively Called A300-600 Series Airplanes); and Model A310 Airplanes

AGENCY: Federal Aviation Administration (FAA), Department of Transportation (DOT).

ACTION: Final rule.

SUMMARY: The FAA is superseding an existing airworthiness directive (AD), which applies to the airplanes identified above. That AD currently requires revising the FAA-approved maintenance program to include a new airplane maintenance manual task that specifies a detailed inspection after each ram air turbine (RAT) retraction. That existing AD also currently requires, for certain airplanes, a one-time inspection to detect breaks in the bottom flange fitting of the RAT and corrective actions, if necessary; for certain airplanes, an adjustment of the ejection jack; and, for certain other airplanes, replacement of the aluminum part with an improved steel part. This AD also continues to require certain actions for additional airplanes and revising the FAA-approved maintenance program to include procedures for replacing the RAT swivel coupling fork fitting with a new steel part only. This AD results from a report that an additional swivel coupling of the RAT yoke fitting was found cracked during the accomplishment of the requirements of the existing AD. We are issuing this AD to prevent misrigging of the ejection jack of the RAT and to ensure removal of any RAT yoke fitting made from aluminum material. Such conditions could result in a broken or cracked swivel coupling and consequent failure of the RAT yoke fitting, which could result in the loss of RAT function and possible loss of critical flight control systems in the event of certain emergency situations.

DATES: This AD becomes effective July 24, 2009.

The Director of the Federal Register approved the incorporation by reference of certain publications listed in the AD as of July 24, 2009.

ADDRESSES: For service information identified in this AD, contact: Airbus SAS—EAW (Airworthiness Office), 1 Rond Point Maurice Bellonte, 31707 Blagnac Cedex, France; telephone +33 5 61 93 36 96; fax +33 5 61 93 44 51; e-mail account.airworth-eas@airbus.com; Internet http://www.airbus.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Vladimir Ulyanov, Aerospace Engineer, International Branch, ANM-116, Transport Airplane Directorate, FAA, 1601 Lind Avenue, SW., Renton, Washington 98057-3356; telephone (425) 227-1138; fax (425) 227-1149.

SUPPLEMENTARY INFORMATION:

Discussion

The FAA issued a notice of proposed rulemaking (NPRM) to amend 14 CFR part 39 to include an AD that supersedes AD 2007-03-09, amendment 39-14920 (72 FR 5157, February 5, 2007). The existing AD applies to all Model A300 airplanes; Model A300 B4-601, B4-603, B4-620, B4-622, B4-605R, B4-622R, F4-605R, F4-622R, and C4-605R Variant F airplanes; and Model A310 airplanes. That NPRM was published in the Federal Register on October 10, 2008 (73 FR 60203). That NPRM proposed to continue to require revising the FAA-approved maintenance program to include a new airplane maintenance manual task that specifies a detailed inspection after each ram air turbine (RAT) retraction and, for certain airplanes, to continue to require replacing the aluminum yoke fitting of the swivel coupling of the RAT with a new steel yoke fitting. That NPRM also proposed to require replacing the RAT swivel coupling fork fitting for additional airplanes and revising the FAA-approved maintenance program to include procedures for replacing the RAT swivel coupling fork fitting with a new steel part only.

Actions Since NPRM Was Issued

The NPRM cited Airbus Mandatory Service Bulletin A300-57-0244, dated March 4, 2005, as the appropriate source of service information for procedures to replace the RAT swivel coupling fork fitting with a new steel fitting. Airbus has since revised that service bulletin. Revision 01, dated September 3, 2007, of that service bulletin includes revised installation procedures. The procedures in Revision 02, dated November 19, 2007, of that service bulletin are essentially the same as those in Revision 01, dated September 3, 2007.

We have revised paragraphs (f) and (h) of this AD to refer to Revision 02 of Airbus Mandatory Service Bulletin A300-57-0244. We have also added a new paragraph (k) to this AD to give credit for actions done in accordance with Revision 01 of Airbus Mandatory Service Bulletin A300-57-0244.

We have also revised paragraph (f) to refer to Airbus Mandatory Service Bulletins A310-57-2086, Revision 01, dated September 3, 2007; and A300-57-6099, Revision 01, dated September 3, 2007. We referred to the original issue of Airbus Mandatory Service Bulletin A310-57-2086, dated March 1, 2005; and Airbus Mandatory Service Bulletin A300-57-6099, dated February 23, 2005; for the replacement in paragraph (f) of the NPRM. The replacement procedures specified in Revision 01 of these service bulletins are identical to those in the original issue of these service bulletins.

Comments

We provided the public the opportunity to participate in the development of this AD. We have considered the comments that have been received on the NPRM.

Request To Revise the Applicability

Airbus requests that modification 19578 be removed from Table 1 in the NPRM because this modification applies to the A300F4-608ST model only. This model is not included on any U.S.-type certificate and is not referenced in paragraph (c) of the NPRM.

We agree. Airbus Model A300F4-608ST is not included on any U.S.-type certificate; therefore, we have removed the reference to the modification for this model from Table 1 of this AD.

Request for Revising Requirements

The Air Transport Association (ATA), on behalf of its member American Airlines (AA), requests that paragraph (g) of the NPRM be revised to coincide with the requirements of paragraph (k) of the NPRM. AA finds that paragraphs (g) and (k) of the NPRM require similar actions.

AA states that paragraph (g) of the NPRM would require changes to the FAA-approved maintenance program; specifically, changes to select AMM chapters are required, with a mandate to replace broken yoke fittings with new steel or aluminum parts. AA states that these AMM chapters are cited by both page block and date. AA states that paragraph (k) of the NPRM would similarly require changes to the maintenance program, and also would mandate changes to AMM sections; however, in paragraph (k) of the NPRM, specific revision dates of the AMM sections in question are not discussed. AA states that furthermore, paragraph (k) of the NPRM would require that a broken yoke be replaced with only a new steel part; paragraph (g) of the NPRM would authorize the use of an aluminum part. AA states that the requirements of paragraph (k) of the NPRM include the updated requirement to use only the steel yoke as a replacement. AA also states that paragraph (k) of the NPRM, unlike paragraph (g) of the NPRM, does not cite specific revision dates, allowing operators necessary latitude for incorporating future AMM revisions.

We find that clarification is necessary. Paragraph (g) of this final rule restates the requirements from superseded AD 2007-03-09, and paragraph (l) of this final rule (referred to as paragraph (k) in the NPRM) provides the new requirements. Performing the actions in paragraph (l) of this AD terminates the requirements of paragraph (g) of this AD. However, the requirements of paragraph (g) of this AD must be retained to ensure that applicable requirements of this AD are done. Paragraph (g) of this final rule states that the actions must be accomplished in accordance with the service information; therefore that service information contains specific revision numbers and dates. Paragraph (k) provides additional information; therefore, that information does not contain specific dates.

We have clarified paragraphs (g) and (l) of this AD to specify the actions are to be done in accordance with a method approved by the FAA or Direction Générale de l'Aviation Civile (DGAC) or European Aviation Safety Agency (EASA). Also, we have added Notes 2 and 4 of this final rule to specify where the information pertaining to the replacement and inspection procedures can be found.

Request for Alternative Replacement Procedures

The ATA, on behalf of its member AA, requests that the yoke replacement not be limited to the accomplishment procedures contained in Airbus Mandatory Service Bulletin A300-57-6099. AA requests that alternative replacement procedures be incorporated into the final rule.

We disagree. We find that the procedures included Airbus Mandatory Service Bulletin A300-57-6099 provide an adequate level of safety. However, we have no evidence that any alternative procedures not included in that service bulletin would provide an adequate level of safety. An operator may apply for approval of an alternative method of compliance (AMOC) in accordance with the procedures outlined in paragraph (m) of this AD. We have not changed the final rule regarding this issue.

Explanation of Changes to Paragraphs (g) and (l) of This AD and Additions of Note 2 and Note 4 in This AD

We have revised paragraphs (g) and (l) of this AD and have added Note 2 and Note 4 to this AD to clarify the requirements of those paragraphs. The revised paragraphs (g) and (l) specify the actions are to be done in accordance with a method approved by the FAA. However, we have added Notes 2 and 4 to specify where information pertaining to the replacement and inspection procedures can be found. We have also moved Note 1 to the applicability section.

Conclusion

We have carefully reviewed the available data, including the comments that have been received, and determined that air safety and the public interest require adopting the AD with the changes described previously. We have determined that these changes will neither increase the economic burden on any operator nor increase the scope of the AD.

Costs of Compliance

The following table provides the estimated costs for U.S. operators to comply with this AD.

Estimated Costs
Action | Work hours | Average labor rate per hour | Parts | Cost per airplane | Number of U.S.-registered airplanes | Fleet cost
Replacement | 14 | $80 | $470 | $1,590 | 205 | $325,950
Revision of FAA-approved maintenance program | 1 | 80 | None | 80 | 205 | 16,400

In consideration of the compliance time and effective date for accomplishing the replacement and revision of the FAA-approved maintenance program required by AD 2007-03-09 (retained in paragraphs (f) and (g) of this AD), we assume that operators of the affected airplanes have already initiated the required actions. The AD adds no new costs associated with those airplanes.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14920 (72 FR 5157, February 5, 2007) and by adding the following new airworthiness directive (AD):

2009-12-02 Airbus: Amendment 39-15925. Docket No. FAA-2008-1082; Directorate Identifier 2007-NM-337-AD.

Effective Date

(a) This AD becomes effective July 24, 2009.

Affected ADs

(b) This AD supersedes AD 2007-03-09.

Applicability

(c) This AD applies to all Model A300 airplanes; Model A300 B4-601, B4-603, B4-620, B4-622, B4-605R, B4-622R, F4-605R, F4-622R, and C4-605R Variant F airplanes; and Model A310 airplanes, certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (m) of this AD. The request should include a description of changes to the required inspections that will ensure the continued damage tolerance of the affected structure. The FAA has provided guidance for this determination in Advisory Circular (AC) 25-1529-1.

Unsafe Condition

(d) This AD results from a report that an additional swivel coupling of the ram air turbine (RAT) yoke fitting was found cracked while accomplishing the requirements of the existing AD. We are issuing this AD to prevent misrigging of the ejection jack of the RAT and to ensure removal of any RAT yoke fitting made from aluminum material. Such conditions could result in a broken or cracked swivel coupling and consequent failure of the RAT yoke fitting, which could result in the loss of RAT function and possible loss of critical flight control systems in the event of certain emergency situations.

Compliance

(e) You are responsible for having the actions required by this AD performed within the compliance times specified, unless the actions have already been done.

Certain Requirements of AD 2007-03-09

Replacement

(f) For Model A300 airplanes, Model A300-600 series airplanes, and Model A310 airplanes equipped with Dowty Rotol RATs, except airplanes on which Airbus Modification 12986 has been done: Within 12 months after March 12, 2007 (the effective date of AD 2007-03-09), replace the RAT swivel coupling fork fitting with a new steel fitting, in accordance with the Accomplishment Instructions of Airbus Service Bulletin A300-57-0244, dated March 4, 2005, or Airbus Mandatory Service Bulletin A300-57-0244, Revision 02, dated November 19, 2007 (for Model A300 airplanes); Airbus Service Bulletin A300-57-6099, dated February 23, 2005, or Airbus Mandatory Service Bulletin A300-57-6099, Revision 01, dated September 3, 2007 (for Model A300-600 series airplanes); or Airbus Service Bulletin A310-57-2086, dated March 1, 2005, or Airbus Mandatory Service Bulletin A310-57-2086, Revision 01, dated September 3, 2007 (for Model A310 airplanes); except as provided by paragraph (h) of this AD.

Revisions of FAA-Approved Maintenance Program

(g) For all airplanes: Within 3 months after March 12, 2007, incorporate information into the FAA-approved maintenance program to specify an inspection for breaks of the bottom flange of the RAT swivel coupling yoke fitting after each RAT retraction; and replacement of the RAT swivel coupling yoke fitting with a new aluminum or steel part as applicable; in accordance with a method approved by the Manager, International Branch, ANM-116, Transport Airplane Directorate, FAA; or the Direction Générale de l'Aviation Civile (or its delegated agent); or the European Aviation Safety Agency (or its delegated agent). Thereafter, except as provided by paragraphs (l) and (m) of this AD, no alternative inspection intervals may be approved for the bottom flange of the RAT swivel coupling yoke fitting.

Note 2: Guidance on the inspection and replacement procedures specified in paragraph (g) of this AD can be found in these documents as applicable:

• Airbus A300-600 Aircraft Maintenance Manual (AMM), Chapter 29-25-00, Page Block 301, dated June 1, 2005.

• Airbus A310 AMM, Chapter 29-25-00, Page Block 301, dated June 1, 2005.

• Airbus A300 AMM Chapter 29-25-00, Page Block 301, dated March 1, 2006.

Note 3: After revising the maintenance program to include the required periodic inspections according to paragraph (g) or (l) of this AD, operators do not need to make a maintenance log entry to show compliance with this AD every time those inspections are accomplished thereafter.

New Requirements of This AD

Revised Service Bulletins

(h) As of the effective date of this AD, use only the Accomplishment Instructions of Airbus Mandatory Service Bulletin A310-57-2086, Revision 01, dated September 3, 2007 (for Model A310 series airplanes); Airbus Mandatory Service Bulletin A300-57-6099, Revision 01, dated September 3, 2007 (for Model A300-600 series airplanes); or Airbus Mandatory Service Bulletin A300-57-0244, Revision 02, dated November 19, 2007 (for Model A300 airplanes), to do the replacement required by paragraph (f) of this AD.

Replacement

(i) For airplanes identified in Table 1 of this AD: Before 102 months since first flight, or within 12 months after the effective date of this AD, whichever occurs later, replace the aluminum yoke fitting of the swivel coupling of the RAT with a new steel yoke fitting, in accordance with the Accomplishment Instructions of Airbus Mandatory Service Bulletin A310-57-2086, Revision 01, dated September 3, 2007 (for Model A310 series airplanes); or Airbus Mandatory Service Bulletin A300-57-6099, Revision 01, dated September 3, 2007 (for Model A300-600 series airplanes).

Table 1—Airplanes Affected by the Requirements of Paragraph (i) of This AD
Model— | Except for those airplanes on which— | Or on which—
(1) A310 series airplanes equipped with Hamilton Sundstrand RAT | Airbus Modification 12986 has been done in production | Airbus Service Bulletin A310-57-2086, dated March 1, 2005; or Airbus Mandatory Service Bulletin A310-57-2086, Revision 01, dated September 3, 2007; has been done in service.
(2) A300-600 series airplanes equipped with Hamilton Sundstrand RAT | Airbus Modification 12986 has been done in production | Airbus Service Bulletin A300-57-6099, dated February 23, 2005; or Airbus Mandatory Service Bulletin A300-57-6099, Revision 01, dated September 3, 2007; has been done in service.

Credit for Actions Performed According to Previous Service Bulletins

(j) Replacements done before the effective date of this AD in accordance with Airbus Service Bulletin A310-57-2086, dated March 1, 2005 (for Model A310 series airplanes); or Airbus Service Bulletin A300-57-6099, dated February 23, 2005 (for Model A300-600 series airplanes); are acceptable for compliance with the requirements of paragraph (i) of this AD.

(k) Replacements done before the effective date of this AD in accordance with Airbus Service Bulletin A300-57-0244, Revision 01, dated September 3, 2007 (for Model A300 airplanes), are acceptable for compliance with the requirements of paragraph (f) of this AD for the affected airplanes.

Revision of FAA-Approved Maintenance Program

(l) For all airplanes: Within 3 months after the effective date of this AD, incorporate information into the FAA-approved maintenance program to specify an inspection for breaks of the bottom flange of the RAT swivel coupling yoke fitting after each RAT retraction; and replacement of the RAT swivel coupling yoke fitting with a new steel part; in accordance with a method approved by the Manager, International Branch, ANM-116, Transport Airplane Directorate, FAA; or European Aviation Safety Agency (or its delegated agent). Thereafter, except as provided by paragraph (m) of this AD, no alternative inspection intervals may be approved for the bottom flange of the RAT swivel coupling yoke fitting. Accomplishing this incorporation terminates the requirements of paragraph (g) of this AD.

Note 4: Guidance on the inspection and replacement procedures specified in paragraph (l) of this AD can be found in these documents as applicable:

• Airbus A300-600 AMM, Chapter 29-25-00, Page Block 301.

• Airbus A310 AMM, Chapter 29-25-00, Page Block 301.

• Airbus A300 AMM Chapter 29-25-00, Page Block 301.

Alternative Methods of Compliance (AMOCs)

(m) The Manager, International Branch, FAA, has the authority to approve AMOCs for this AD, if requested using the procedures found in 14 CFR 39.19. Send information to ATTN: Vladimir Ulyanov, Aerospace Engineer, International Branch, ANM-116, Transport Airplane Directorate, FAA, 1601 Lind Avenue, SW., Renton, Washington 98057-3356; telephone (425) 227-1138; fax (425) 227-1149. Before using any approved AMOC on any airplane to which the AMOC applies, notify your principal maintenance inspector (PMI) or principal avionics inspector (PAI), as appropriate, or lacking a principal inspector, your local Flight Standards District Office. The AMOC approval letter must specifically reference this AD.

Related Information

(n) European Aviation Safety Agency (EASA) airworthiness directive 2007-0273, dated October 23, 2007, and French airworthiness directive F-2005-089, dated June 8, 2005, also address the subject of this AD.

Material Incorporated by Reference

(o) You must use the service information contained in Table 2 of this AD to do the actions required by this AD, as applicable, unless the AD specifies otherwise.

Table 2—Material Incorporated by Reference
Document | Revision | Date
Airbus Mandatory Service Bulletin A300-57-0244 | 02 | November 19, 2007.
Airbus Mandatory Service Bulletin A300-57-6099 | 01 | September 3, 2007.
Airbus Mandatory Service Bulletin A310-57-2086 | 01 | September 3, 2007.

(1) The Director of the Federal Register approved the incorporation by reference of this service information under 5 U.S.C. 552(a) and 1 CFR part 51.

(2) For service information identified in this AD, contact Airbus SAS—EAW (Airworthiness Office), 1 Rond Point Maurice Bellonte, 31707 Blagnac Cedex, France; telephone +33 5 61 93 36 96; fax +33 5 61 93 44 51; e-mail account.airworth-eas@airbus.com; Internet http://www.airbus.com.

(3) You may review copies of the service information at the FAA, Transport Airplane Directorate, 1601 Lind Avenue, SW., Renton, Washington. For information on the availability of this material at the FAA, call 425-227-1221 or 425-227-1152.

(4) You may also review copies of the service information at the National Archives and Records Administration (NARA). For information on the availability of this material at NARA, call 202-741-6030, or go to: http://www.archives.gov/federal_register/code_of_federal_regulations/ibr_locations.html.

Issued in Renton, Washington, on May 20, 2009.
Stephen P. Boyd,
Acting Manager, Transport Airplane Directorate, Aircraft Certification Service.

[FR Doc. E9-13146 Filed 6-18-09; 8:45 am]

BILLING CODE 4910-13-P